Title 3—

The President

Executive Order 13240 of December 18, 2001

Council of Europe in Respect of the Group of States Against Corruption

By the authority vested in me as President by the Constitution and the laws of the United States, including section 1 of the International Organizations Immunities Act (22 U.S.C. 288) (the “Act”), and having found that the Council of Europe in Respect of the Group of States Against Corruption (GRECO) is a public international organization in which the United States participates within the meaning of the Act, I hereby designate GRECO as a public international organization entitled to enjoy the privileges, exemptions, and immunities conferred by the Act. This designation is not intended to abridge in any respect privileges, exemptions, or immunities that such organization may have acquired or may acquire by international agreement or by law.

B

THE WHITE HOUSE,

December 18, 2001.

[FR Doc. 01-31665

Filed 12-20-01; 8:45 am]

Billing code 3195-01-P